DEPARTMENT OF ENERGY

Federal Energy Regulatory Commission

Sunshine Act Meeting

September 8, 2005.

The following notice of meeting is published pursuant to section 3(a) of the government in the Sunshine Act (Pub. L. No. 94-409), 5 U.S.C 552b:

Agency Holding Meeting: Federal Energy Regulatory Commission.

Date and Time: September 15, 2005, 10 a.m.

Place: Room 2C, 888 First Street, NE., Washington, DC 20426.

Status: Open.

Matters to be Considered: Agenda (*Note—Items listed on the agenda may be deleted without further notice.)

Contact person for more Information: Magalie R. Salas, Secretary, Telephone (202) 502-8400. (For a recording listing items stricken from or added to the meeting, call (202) 502-8627.)

This is a list of matters to be considered by the Commission. It does not include a listing of all papers relevant to the items on the agenda; however, all public documents may be examined in the Public Reference Room.

896th—Meeting

Regular Meeting, September 15, 2005, 10 a.m.

Administrative Agenda

A-1

Docket# AD02-1-000, Agency Administrative Matters

A-2

Docket# AD02-7-000, Customer Matters, Reliability, Security and Market Operations

Markets, Tariffs, and Rates—Electric

E-1

Docket# RM05-25-000, Preventing Undue Discrimination and Preference in Transmission Service

E-2

Docket# RM05-6-000, Commission Authorization to Hold Interlocking Positions

E-3

Docket# ER05-1118-000, Southwest Power Pool, Inc.

E-4

Docket# ER05-1228-000, ER05-1228-001, Sea Breeze Pacific Juan de Fuca Cable, LP

E-5

Docket# ER05-1047-000, ER05-1047-001, ER05-1048-000, ER05-1048-001, Midwest Independent Transmission System Operator, Inc.

E-6

Docket# ER05-1230-000, Midwest Independent Transmission System Operator, Inc.

E-7

Omitted

E-8

Docket# EL05-68-000, TECO-PANDA Generating Company, L.P.

ER05-1164-000, ER05-1164-001, TPGC, LP

ER05-1239-000, TPS Dell, LLC

ER05-1240-000, TPS McAdams, LLC

E-9

Docket# ER05-1217-000, ER05-1217-001, Black Hills Power, Inc.

E-10

Omitted

E-11

Docket# EL05-134-000, Indiana Municipal Power Agency

E-12

Docket# EL02-123-007, Boston Edison Company

E-13

Omitted

E-14

Docket# EL05-5-002, ER03-762-008, ER99-230-008, Alliant Energy Corporate Services, Inc.

E-15.

Docket# EL05-83-000, Aquila Inc.

Docket# ER02-47-004, ER02-47-002, Aquila Long Term, Inc.

Docket# ER02-216-024, ER95-216-025, Aquila Merchant Services, Inc.

Docket# ER03-725-004, ER03-725-005, Aquila Piatt County Power, L.L.C.

Docket# ER03-1079-004, ER03-1079-005, Aquila, Inc.

Docket# ER02-309-004, ER02-309-005, MEP Clarksdale Power, LLC

Docket# ER02-1016-002, ER02-1016-003, MEP Flora Power, LLC

Docket# ER99-2322-004, ER99-2322-005, MEP Investments, LLC

Docket# ER01-905-004, ER01-905-005, MEP Pleasant Hill Marketing, LLC

Docket# ER00-1851-004, ER00-1851-005, Pleasant Hill Market, LLC

E-16.

Omitted

E-17.

Docket# EC05-98-000, PSEG Waterford Energy LLC, American Electric Power Service Corporation and Columbus Southern Power Company

E-18.

Docket# EL05-123-000, New York Power Authority v. Consolidated Edison Company of New York, Inc.

E-19.

Docket# EL05-135-000, Entergy Arkansas, Inc.

E-20.

Docket# EL05-129-000, EL05-129-001, Lockhart Power Company

E-21.

Omitted

E-22.

Docket# EL05-60-000, PJM Interconnection L.L.C.

E-23.

Omitted

E-24.

Omitted

E-25.

Docket# EL05-49-001, Exelon Corporation v. PPL Electric Utilities Corporation and PJM Interconnection, LLC

E-26.

Docket# ER05-1050-001, AmerGen Energy Company, LLC

E-27.

Omitted

E-28.

Docket# ER05-531-001, ISO New England, Inc.

E-29.

Docket# ER05-483-003, Cottonwood Energy Company, L.P.

E-30.

Omitted

E-31.

Docket# ER96-2495-025, AEP Power Marketing, Inc.

Docket# ER97-4143-013, AEP Service Corporation

Docket# ER98-542-015, EL04-131-001, Central and South West Service, Inc.

Docket# ER98-2075-019, CSW Energy Services, Inc.

Docket# ER97-1238-020, CSW Power Marketing, Inc.

E-32.

Docket# ER05-109-001, ER05-109-002, ER04-48-012, ER04-48-013, ER05-652-001, ER05-652-002, RT04-1-012, RT04-1-013, Southwest Power Pool, Inc.

E-33.

Omitted

E-34.

Omitted

E-35.

Docket# EL05-76-001, The United Illuminating Company v. Dominion Energy Marketing, Inc.

E-36.

Docket# EL04-114-001, City of Santa Clara, California v. Enron Power Marketing, Inc.

E-37.

Omitted

E-38.

Docket# EL05-106-001, Bonneville Power Administration, PacifiCorp, Idaho Power Company

E-39.

Docket# ER02-1656-029, California Independent System Operator Corporation

E-40.

Docket# ER05-215-003, ER05-215-004, Midwest Independent Transmission System Operator, Inc.

E-41.

Docket# ER04-691-037, ER04-691-056, ER04-106-008, ER04-106-013, Midwest Independent Transmission System Operator, Inc.

Docket# EL04-104-053, EL04-104-035, Public Utilities With Grandfathered Agreements in Midwest ISO Region

E-42.

Docket# ER05-319-002, PJM Interconnection, L.L.C.

E-43.

Docket# ER05-428-003, New York Independent System Operator, Inc.

E-44.

Docket# ER04-230-012, ER01-1355-010, ER01-1385-019, EL01-45-018, New York Independent System Operator, Inc.

Markets, Tariffs, and Rates—Miscellaneous

M-1.

Docket# RM05-32-000, Repeal of the Public Utility Holding Company Act of 1935 and Enactment of the Public Utility Holding Act of 2005

M-2.

Docket# RM05-33-000, Revision of Rules of Practice and Procedure Regarding Issue Identification

Markets, Tariffs, and Rates—Gas

G-1.

Docket# OR89-2-016, OR89-2-017, Trans Alaska Pipeline System

Docket# OR96-14-005, OR96-14-006, Exxon Company, U.S.A. v. Amerada Hess Pipeline Corporation

Docket# OR98-24-000, OR98-24-002,Tesoro Alaska Petroleum Company v. Amerada Hess Pipeline Corporation

Docket# IS03-137-000, IS03-137-001, BP Pipelines (Alaska) Inc.

Docket# IS03-141-000, IS03-141-001, ExxonMobil Pipeline Company

Docket# IS03-142-000, IS03-142-001, Phillips Transportation Alaska, Inc.

Docket# IS03-143-000, IS03-143-001, Unocal Pipeline Company

Docket# IS03-144-000, IS03-144-001, Williams Alaska Pipeline Company, L.L.C.

G-2.

Docket# PR05-12-000, PR05-12-001, Nicor Gas

G-3.

Docket# RP00-404-017, Northern Natural Gas Company

G-4.

Docket# RP02-335-005, RP02-335-006, ANR Pipeline Company

G-5.

Docket# RP02-99-010, Shell Offshore Inc. v. Transcontinental Gas Pipe Line Corporation, Williams Gas Processing—Gulf Coast Company, L.P., and Williams Field Services

G-6.

Docket# RP05-365-001, ANR Pipeline Company

G-7.

Docket# AI05-1-000, Jurisdictional Public Utilities and Licensees, Natural Gas Companies, Oil Pipeline Companies

G-8.

Docket# RP03-623-002, Dominion Transmission, Inc.

G-9.

Omitted

G-10.

Docket# PL05-10-000, Criteria for Reassertion of Jurisdiction Over the Gathering Services of Natural Gas Company Affiliates

G-11.

Docket# RP04-197-000, RP04-197-001, RP04-197-003, RP05-213-000, Dominion Cove Point LNG, LP

G-12.

Docket# OR05-9-000, Flint Hills Resources Alaska, LLC v. ConocoPhillips Alaska, Inc., Exxon Mobil Corporation, Tesoro Alaska Company, BP America Production Company, BP Exploration (Alaska) Inc., OXY USA Inc., Union Oil Company of California, Petro Star Inc., State of Alaska, BP Pipelines (Alaska) Inc., ConocoPhillips Transportation Alaska, Inc., ExxonMobil Pipeline Company, Koch Alaska Pipeline Company, LLC, and Unocal Pipeline Company

Energy Projects—HYDRO

H-1.

Docket# EL05-73-001, P-459-136, Duncan's Point Lot Owners Association, Inc., Duncan's Point Homeowners Association, Inc., and Nancy A. Brunson, Juanita Brackens, Helen Davis, and Pearl Hankins, individually v. Union Electric Company d/b/a AmerenUE

Energy Projects—CERTIFICATES

C-1.

Docket# CP05-32-000, CP05-32-001, Northwest Pipeline Corporation

C-2.

Docket# CP03-42-000, Gulf South Pipeline Company, LP

C-3.

Docket# CP05-353-001, El Paso Natural Gas Company

C-4.

Omitted

C-5.

Docket# CP05-55-000, Northern Natural Gas Company

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703) 993-3100 as soon as possible or visit the Capitol Connection Web site at http://www.capitolconnection.gmu.edu and click on “FERC”.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-18299 Filed 9-9-05; 3:57 pm]

BILLING CODE 6717-17-P